ENVIRONMENTAL PROTECTION AGENCY

[EPA-HQ-OECA-2010-0291; FRL-9959-50-OEI]

Information Collection Request Submitted to OMB for Review and Approval; Comment Request; State Review Framework (Renewal)

AGENCY: Environmental Protection Agency (EPA).

ACTION: Notice.

SUMMARY: The Environmental Protection Agency has submitted an information collection request (ICR), “State Review Framework (Renewal)” (EPA ICR No. 2185.06, OMB Control No. 2020-0031) to the Office of Management and Budget (OMB) for review and approval in accordance with the Paperwork Reduction Act (44 U.S.C. 3501 et seq.). This is a proposed extension of the ICR, which is currently approved through February 28, 2017. Public comments were previously requested via the Federal Register 81 FR 70421 on October 12, 2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 27, 2017.

ADDRESSES: Submit your comments, referencing Docket ID Number EPA-HQ-OECA-2010-0291, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Christopher Knopes, Office of Enforcement and Compliance Assurance, Office of Compliance; Environmental Protection Agency, 1200 Pennsylvania Ave. NW., Washington, DC 20460; telephone number: 202-564-2337; email address: knopes.christopher@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The State Review Framework is an oversight tool designed to assess state performance in enforcement and compliance assurance. The Framework's goal is to evaluate state performance by examining existing data to provide a consistent level of oversight and develop a uniform mechanism by which EPA Regions, working collaboratively with their states, can ensure that state environmental agencies are consistently implementing the national compliance and enforcement program in order to meet agreed-upon goals. Furthermore, the Framework is designed to foster dialogue on enforcement and compliance performance between the states that will enhance relationships and increase feedback, which will in turn lead to consistent program management and improved environmental results. The Framework is described in the April 26, 2005 Federal Register Notice (79 FR 21408). This request will allow OECA to collect information from enforcement and compliance files reviewed during routine on-site visits of state or local agency offices that will assist in the evaluation of the State Review Framework implementation from FY 2017 to the end of FY 2019. It will allow also EPA to make inquiries to assess the State Review Framework process, including the consistency achieved among the EPA Regions and states, the resources required to conduct the reviews, and the overall effectiveness of the program.

Form Numbers: None.

Respondents/affected entities: States, localities, and territories.

Respondent's obligation to respond: Required as part of program authorization under the Clean Water, Clean Air, and Resource Conservation and Recovery Acts.

Estimated number of respondents: 54 (total).

Frequency of response: Once every five years.

Total estimated burden: 2,765 hours (per year). Burden is defined at 5 CFR 1320.03(b)

Total estimated cost: $108,649 (per year), includes $0 annualized capital or operation & maintenance costs.

Changes in Estimates: There is a decrease of 2,862 hours (per year) in the total estimated respondent burden compared with the ICR currently approved by OMB. This decrease reflects full implementation of efficiencies instituted just prior to the submittal of the currently approved ICR in addition to continued experience on the part of respondents with the review process. Also, adjustments were made to the estimates because several alternative respondents were consulted to who had completed a more recent review.

Courtney Kerwin,
Director, Collection Strategies Division.

[FR Doc. 2017-03484 Filed 2-22-17; 8:45 am]

BILLING CODE 6560-50-P